DEPARTMENT OF STATE

[Public Notice 8922]

U.S. National Commission for UNESCO Notice of Meeting

The 2014 Annual Meeting of the U.S. National Commission for the United Nations Educational, Scientific, and Cultural Organization (UNESCO) will take place on Friday, December 5, 2014, at the U.S. Department of State in Washington, DC (2201 C Street NW.) The Commission will hold a series of informational plenary sessions, subject-specific committee and thematic breakout sessions and discuss final recommendations, which will be open to the public 9:30 a.m. to 12:30 p.m. and from 2:00 p.m. to approximately 4:30 p.m.

Members of the public who wish to attend any of these meetings or who need reasonable accommodation should contact the U.S. National Commission for UNESCO at the email address below no later than Monday, December 1, 2014 for further information about admission, as seating is limited. Those who wish to make oral comments during the public comment section held during the afternoon session should request to be scheduled by Friday, November 28, 2014. Each individual will be limited to five minutes, with the total oral comment period not exceeding thirty minutes.

Access to the building is strictly controlled. For pre-clearance purposes, those planning to attend will need to provide full name, address, date of birth, citizenship, driver's license or passport number, and email address. This information will greatly facilitate entry into the building.

Written comments should be submitted by Friday, November 28, 2014 to allow time for distribution to the Commission members prior to the meeting. The National Commission may be contacted via email at DCUNESCO@state.gov, or via phone at (202) 663-0026. The Web site can be accessed at: http://www.state.gov/p/io/unesco./

Personal information regarding attendees is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: October 14, 2014.
Allison Wright,
Executive Director, U.S. National Commission for UNESCO, Department of State.

[FR Doc. 2014-25178 Filed 10-21-14; 8:45 am]

BILLING CODE 4710-19-P